SMALL BUSINESS ADMINISTRATION

Revocation of License of Small Business Investment Company

Pursuant to the authority granted to the United States Small Business Administration by the Wind-Up Order of the United States District Court for the Eastern District of Arkansas, Western Division, entered January 16, 2013, the United States Small Business Administration hereby revokes the license of Small Business Investment Capital, Inc., an Arkansas Corporation, to function as a small business investment company under the Small Business Investment Company License No. 06060175 issued to Small Business Investment Capital, Inc., on March 06, 1975 and said license is hereby declared null and void as of January 16, 2013.

United States Small Business Administration
Dated: June 10, 2013.
Harry E. Haskins,
Acting Associate Administrator for Investment.

[FR Doc. 2013-14260 Filed 6-14-13; 8:45 am]

BILLING CODE P